DEPARTMENT OF THE INTERIOR

Bureau of Land Management

[WO-310-1310-PB-24 1A]

Extension of Approved Information Collection, OMB Approval Number 1004-0184

AGENCY: Bureau of Land Management, Interior.

ACTION: Notice and request for comments.

SUMMARY: In accordance with the Paperwork Reduction Act of 1995, the Bureau of Land Management (BLM) is requesting the Office of Management and Budget (OMB) to extend an existing approval to collect information from lessees, operators, record title holders, operating rights owners, and the general public on oil and gas leasing and operations on Federal lands. The revised implementing regulations will be found at 43 CFR part 3100 to authorize BLM to collect the new required nonform information.

DATES: You must submit your comments to BLM at the address below on or before October 1, 2001. BLM will not necessarily consider any comments received after the above date.

ADDRESSES: You may mail comments to: Regulatory Affairs Group (630), Bureau of Land Management, Mailstop 401LS, 1840 C Street, NW., Washington, DC 20240.

You may send comments via Internet to: WOComment@blm.gov. Please include “ATTN: 1004-0184” and your name and return address in your Internet message.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Barbara Gamble on (202) 452-0338 (Commercial or FTS). Persons who use a telecommunications device for the deaf (TDD) may call the Federal Information Relay Service (FIRS) on 1-800-877-8330, 24 hours a day, seven days a week, to contact Ms. Gamble.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The BLM is revising its Federal oil and gas leasing and operations regulations (43 CFR Part 3100). The implementing regulations will improve procedures and clarify requirements. The Mineral Leasing Act of 1920, as amended (30 U.S.C. 181 et seq.); the Mineral Leasing Act for Acquired Lands of 1947, as amended (30 U.S.C. 351-359); the various Indian leasing acts; the National Environmental Policy Act of 1969, as amended (42 U.S.C. 4321 et seq.); the Federal Onshore Oil and Gas Leasing Reform Act of 1987 (Pub. L. 100-203, 101 Stat. 1330-256); the Federal Oil and Gas Royalty Management Act; and the various requirements in 43 CFR 3100, authorize BLM to maintain records and provide information pertaining to data submitted by the lessees, operators, record title holders, operating rights owners, and the general public.

Based upon our experience managing oil and gas activities, we estimated the new public reporting information collection burden in a Federal Register notice (63 FR 66840). We estimated 22,945 responses per year and an estimated total annual burden of 4,102 hours.

BLM will summarize all responses to this notice and include them in the request for OMB approval. All comments will become a matter of public record.

Dated: July 16, 2001.
Michael H. Schwartz,
BLM Information Collection Clearance Officer.

[FR Doc. 01-19039 Filed 7-30-01; 8:45 am]

BILLING CODE 4310-84-M